DEPARTMENT OF LABOR

Office of the Secretary

Submission for OMB Review; Comment Request

September 25, 2002.

The Department of Labor (DOL) has submitted the following public information collection requests (ICRs) to the Office of Management and Budget (OMB) for review and approval in accordance with the Paperwork Reduction Act of 1995 (Pub. L. 104-13, 44 U.S.C. Chapter 35). A copy of each individual ICR, with applicable supporting documentation, may be obtained by calling the Department of Labor. To obtain documentation, contact Darrin King (202) 693-4129 or e-mail: King-Darrin@dol.gov.

Comments should be sent to Office of Information and Regulatory Affairs, Attn: OMB Desk Officer for OSHA, Office of Management and Budget, Room 10235, Washington, DC 20503 ((202) 395-7316), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Occupational Safety and Health Administration (OSHA).

Title: Overhead and Gantry Cranes Standard.

Type of Review: Extension of a currently approved collection.

OMB Number: 1218-0224.

Affected Public: Business or other for-profit; Not-for-profit institutions; Federal Government; and State, Local, or Tribal Government.

Type of Response: Recordkeeping and Third-party disclosure.

Number of Respondents: 35,000.

Requirement | Frequency | Annual responses | Average response time (hours) | Annual burden hours
Marking the Rated Load—29 CFR 1910.179(b)(3) and (b)(5) | On occasion | 35 | 2.00 | 70
Certification Records of Hook and Hoist Chain Inspections—29 CFR 1910.179(j)(2)(iii) and (j)(2)(iv) | Monthly | 360,000 | 0.50 | 180,000
Reports from Rated Load Test—29 CFR 1910.179(k)(2) | On occasion | 70 | 1.00 | 70
Certification Records of Rope Inspections—29 CFR 1910.179(m) | Monthly | 360,000 | 0.50 | 180,000
Total |  | 720,105 |  | 360,140

Total Annualized capital/startup costs: $0.

Total annual costs (operating/maintaining systems or purchasing services): $0.

Description: The Overhead and Gantry Granes Standard (29 CFR 1910.179) specifies several paperwork requirements. The following sections describe who uses the information collected under each requirement, as well as how they use it. The purpose of these requirements is to prevent death and serious injuries among employees by ensuring that all critical components of the crane are inspected and tested on a periodic basis and that the crane is not used to lift loads beyond its rated capacity.

• Marking the Rates Load (paragraphs (b)(3) and (b)(5)). Paragraph (b)(5) requires that the rated load be plainly marked on the side of each crane. If the crane has more than one hoist, the rated load must be marked on each hoist or the load block. The manufacturer will mark the rated loads. If the crane is modified, paragraph (b)(3) requires the new rating to be determined and marked on the crane. Reports of the rated load test are also required. This function would most likely fall to the employer. Marking the rated-load capacity of a crane ensures that employers and employees will not exceed the limits of the crane, which can result in crane failure.

• Certification Records for Hook and Hoist Chain Inspections (paragraph (j)(2)(iii) and (j)(2)(iv)). Paragraphs (j)(2)(iii) and (j)(2)(iv) require daily and monthly inspections of hooks and hoist chains, respectively. After each monthly inspection, employers are to prepare a certification record that includes the date of the inspection, the signature of the person who performed the inspection, and the serial number, or other identifier, of the inspected hook or hoist chain. Certification records provide employers, employees, and OSHA compliance officers with assurance that the hooks and hoist chains used on cranes regulated by the Standard have been inspected as required by the Standard. These inspections help assure that the equipment is in good operating condition, thereby preventing failure of the hooks or hoist chains during material handling. These records also provide the most efficient means for the compliance officers to determine that an employer is complying with the Standard.

• Reports of Rated Load Tests (paragraph (k)(2)). Under this provision, employers must make readily available test reports of load-rating tests conducted under paragraph (b)(3) for modified cranes, and for hooks repaired as stated in paragraph (1)(3)(iii)(a) of the Standard. These reports inform the employer, employees, and OSHA compliance officers that a rated load test was performed, providing information about the capacity of the crane and the adequacy of the repaired hook. This information is used by crane operators so that they will not exceed the rated load of the crane or hook.

• Certification Records of Rope Inspections (paragraph (m)). Paragraph (m)(1) requires employers to inspect thoroughly all running rope in use, and do so at least once a month. In addition, rope which has been idle for at least a month must be inspected before use, as prescribed by paragraph (m)(2), and a record prepared to certify that the inspection was done. The certification records must include the inspection date, the signature of the person conducting the inspection, and the identifier of the rope inspected. Employers must keep the certification records on file and available for inspection. The certification records provide employers, employees, and OSHA compliance officers with assurance that the ropes are in good condition.

Agency: Occupational Safety and Health Administration (OSHA).

Title: Rigging Equipment for Material Handling.

Type of Review: Extension of a currently approved collection.

OMB Number: 1218-0233.

Affected Public: Business or other for-profit; Not-for-profit institutions; Federal Government; and State, Local, or Tribal Government.

Type of Response: Recordkeeping and Third-party disclosure.

Number of Respondents: 132,737.

Requirement | Frequency | Annual responses | Average response time (hours) | Annual burden hours
Alloy Steel Chains—29 CFR 1926.251(b)(1) | On occasion | 199 | 0.50 | 100
Alloy Steel Chains—29 CFR 1926.251(b)(6)(i) | Annually | 199,106 | 0.25 | 49,777
Welded End Attachment—29 CFR 1926.251(c)(15)(ii) | On occasion | 99,553 | 0.05 | 4,978
Synthetic Webbing (nylon, polyester, and polypropylene)—29 CFR 1926.251(e)(1) (i), (ii) and (iii) | On occasion | 106 | 0.50 | 53
Hooks—29 CFR 1926.251(f)(2) | On occasion | 2,655 | 0.50 | 1,328
Total |  | 301,619 |  | 56,236

Total Annualized capital/startup costs: $0.

Total annual costs (operating/maintaining systems or purchasing services): $0.

Description: 29 CFR 1926.251(b)(1); (b)(6)(1); (c)(15)(ii); (e)(1)(i), (ii), (iii); and (f)(2) require affixing identification tags or markings on rigging equipment, developing and maintaining inspections records, and retaining proof-testing certificates. The purpose of each of these requirements is to prevent employees from using defective or deteriorated equipment, thereby reducing their risk of death or serious injury caused by equipment failure during material handling.

Ira L. Mills,
Departmental Clearance Officer.

[FR Doc. 02-25175 Filed 10-2-02; 8:45 am]

BILLING CODE 4510-26-M